DEPARTMENT OF THE INTERIOR

National Park Service

Renouncement, Notice of Availability of the Final General Management Plan and Final Environmental Impact Statement for Missouri National Recreational River (59-Mile District), Nebraska and South Dakota

SUMMARY: Pursuant to section 102(2)(c) of the National Environmental Policy Act (NEPA) of 1969, the National Park Service (NPS) is reannouncing the availability of a final environmental impact statement (FEIS) and general management plan (GMP) for the Missouri National Recreational River 59-mile district located in portions of Clay, Union, and Yankton counties, South Dakota; and Cedar, Dixon, and Knox counties in Nebraska.

The original NPS notice of availability for this document was previously published in the Federal Register (64 FR 56215, Oct. 18, 1999). A record of decision for the project was signed on December 17, 1999, and also was published in the Federal Register (64 FR 72359, Dec. 27, 1999). However, it recently was discovered that the FEIS was inadvertently not filed with the Environmental Protection Agency (EPA) as required by 40 CFR 1506.9.

Accordingly, the NPS is suspending the record of decision and implementation of the plan. The FEIS has been filed with the EPA. No action will be taken towards implementation of the GMP until 30-days after the EPA's notice of availability is published in the Federal Register.

DATES: The no action period for review of the FEIS will end 30-days after the EPA publishes its notice of availability in the Federal Register. A revised record of decision will be issued following the no action period.

FOR FURTHER INFORMATION CONTACT: Paul Hedren, Superintendent, Missouri National Recreational River, P.O. Box 591, O'Neill, Nebraska 68763, or by e-mail to MNRR_Superintendent@nps.gov, or call 402-336-3970.

SUPPLEMENTARY INFORMATION: The draft environmental impact statement and general management plan for the recreational river was on public review from October 5 to December 18, 1998. The FEIS responds to Public Law 95-625 (1978), which amends the Wild and Scenic Rivers Act by adding a 59-mile reach of the Missouri River below the Gavins Point Dam to the National Wild and Scenic Rivers System. The NPS prepared this FEIS to update a previous management plan written in 1980 by the Heritage Conservation and Recreation Service and only partially implemented. Cooperating agencies included the U.S. Army Corps of Engineers; U.S. Fish and Wildlife Service; Nebraska Game and Parks Commission; South Dakota Game, Fish, and Parks Department; South Dakota Region Three Planning; and Nebraska Lewis and Clark Planning District. The NPS's preferred alternative for the Missouri National Recreational River is identified in the FEIS as alternative 2. The preferred alternative would provide for maintenance and restoration of biologic values and would seek to minimize the effects of the mainstem dams. It also would provide for management activities that would emphasize the history and culture of the river and its surroundings. In this preferred alternative, as well as alternative 3, the Corps of Engineers (COE) and the NPS would manage the area through a cooperative agreement. The COE would function as the day-to-day manager of the water-related resources, while the NPS would administer the land-related resources. The agencies would work together where their responsibilities overlapped. Two other alternatives were also considered. The no-action alternative (alternative 1) would continue a current cooperative agreement and otherwise provides a baseline for comparison of the other alternatives; and alternative 3, providing increased recreational emphasis on the river. Partnerships with local entities would be sought to provide services in all alternatives.

The boundary in alternatives 2 and 3 is the same. It differs slightly from the existing boundary in alternative 1, chiefly by adding several historic sites. Both boundaries include important examples of the river's outstandingly remarkable resources.

Dated: February 16, 2000.
Catherine A. Damon,
Acting Regional Director, Midwest Region.

[FR Doc. 00-4630 Filed 2-25-00; 8:45 am]

BILLING CODE 4310-70-P